DEPARTMENT OF THE INTERIOR

Bureau of Land Management

[UT-080-1310-00]

Proposed Plan Amendment Environmental Assessment to the Book Cliffs Resource Area Resource Management Plan

AGENCY: Bureau of Land Management, DOI.

ACTION: Notice of availability of the proposed plan amendment environmental assessment to the Book Cliffs Resource Area Resource Management Plan.

SUMMARY: The Bureau of Land Management (BLM), Vernal Field Office has completed an Environmental Assessment (EA) and issued a Finding of No Significant Impact (FONSI) for the proposed amendment to the Book Cliffs Resource Area Resource Management Plan (BCRA-RMP). The proposed plan amendment would authorize oil and gas leasing and development in the Hill Creek Federal Oil and Gas Unit located approximately 35 miles south of Vernal, Utah, encompassing approximately eight square miles (or 5,350 acres) within Sections 27 through 34 of Township 10 South, Range 20 East. Approximately 78 percent (4,150 acres) of the project area is located on lands belonging to the Uintah and Ouray Indian Reservation. Approximately 18 percent (960 acres) is located on public lands administered by the Bureau of Land Management, and the remaining approximately 4 percent (240) acres is located on private lands.

DATES: The 30 day protest period for this proposed plan amendment will commence with the date of publication of this notice. Protests must be received on or before March 20, 2000.

ADDRESSES: Protests must be addressed to the Director (WO-210), Bureau of Land Management, Attn: Brenda Williams, 1849 C Street, N.W., Washington, D.C. 20240, within 30 days after the date of publication of this Notice of Availability.

FOR FURTHER INFORMATION CONTACT: Duane De Paepe, Planning and Environmental Coordinator, Vernal Field Office, at 170 South 500 East, Vernal, Utah 84078, (435) 781-4403. Copies of the proposed Plan Amendment EA are available for review at the Vernal Field Office.

SUPPLEMENTARY INFORMATION: This action is announced pursuant to Section 202(a) of the Federal Land Policy and Management Act (1976) and 43 CFR Part 1610. This Proposed Amendment is subject to protests by any party who has participated in the planning process. Protest must be specific and contain the following information:

—The name, mailing address, phone number, and interest of the person filing the protest.

—A statement of the issue(s) being protested.

—A statement of the part(s) of the proposed amendment being protested and citing pages, paragraphs, maps, et cetera, of the proposed plan amendment.

—A copy of all documents addressing the issue(s) submitted by the protestor during the planning process or a reference to the date when the protester discussed the issue(s) for the record.

—A concise statement as to why the protester believes the BLM State Director is incorrect.

Sally Wisely,
State Director.

[FR Doc. 00-3791 Filed 2-16-00; 8:45 am]

BILLING CODE 1310-DQ-P